DEPARTMENT OF ENERGY

Federal Energy Regulatory Commission

[Docket No. CP93-618-013]

PG&E Gas Transmission, Northwest Corporation; Notice of Annual Report

March 14, 2002.

Take notice that on January 28, 2002, PG&E Gas Transmission, Northwest Corporation (GTN) tendered for filing its “Annual Report on Deferred Revenue Recovery Mechanism and Revenue Reconciliation for the Year Ending October 31, 2001” for its Medford, Oregon Extension FTS-1 (E-2).

GTN asserts that the purpose of this filing is to comply with the Commission's Order of January 12, 1995 in Docket Nos. CP93-618, et al. That Order requires GTN to file an annual report concerning its deferred revenue recovery mechanism and detailing the cost of service for GTN's Medford Extension and the status of its deferred revenue recovery mechanism.

GTN further states that a copy of this filing has been served on GTN's jurisdictional customers and interested state regulatory agencies, as well as the Official Service list compiled by the Secretary in this proceeding.

Any person desiring to be heard or protest said filing should file a motion to intervene or protest with the Federal Energy Regulatory Commission, 888 First Street, NE., Washington, DC 20426, in accordance with sections 385.214 and 385.211 of the Commission's Rules of Practice and Procedure. All such motions or protests must be filed as provided in section 154.210 of the Commission's Regulations. Protests will be considered by the Commission in determining the appropriate action to be taken, but will not serve to make protestants parties to the proceeding. Any person wishing to become a party must file a motion to intervene. Copies of this filing are on file with the Commission and are available for publish inspection in the Public Reference Room.

Linwood A. Watson, Jr.,
Deputy Secretary.

[FR Doc. 02-6694 Filed 3-19-02; 8:45 am]

BILLING CODE 6717-01-P